DEPARTMENT OF THE INTERIOR

Geological Survey

[GX15LC00BM3FD00]

Agency Information Collection Activities: Request for Comments

AGENCY: U.S. Geological Survey (USGS), Department of the Interior.

ACTION: Notice of a revision of a currently approved information collection (1028-0079).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on September 30, 2015.

DATES: To ensure that your comments are considered, we must receive them on or before June 2, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-0079, North American Breeding Bird Survey' in all correspondence.

FOR FURTHER INFORMATION CONTACT: Keith Pardieck, USGS Patuxent Wildlife Research Center, 12100 Beech Forest Road, Laurel, MD 20708-4038 (mail); 301-497-5843 (phone); or kpardieck@usgs.gov (email). You may also find information about this ICR at www.reginfo.gov.

SUPPLEMENTARY INFORMATION:

I. Abstract

Respondents supply the U.S. Geological Survey with avian population data for more than 600 North American bird species. The raw survey data, resulting population trend estimates, and relative abundance estimates will be made available via the Internet and through special publications, for use by Government agencies, industry, education programs, and the general public. We will protect information from respondents considered proprietary under the Freedom of Information Act (5 U.S.C. 552) and its implementing regulations (43 CFR part 2), and under regulations at 30 CFR 250.197, “Data and information to be made available to the public or for limited inspection.” Responses are voluntary. No questions of a “sensitive” nature are asked.

II. Data

OMB Control Number: 1028-0079.

Form Number: NA.

Title: North American Breeding Bird Survey.

Type of Request: Extension of a currently approved collection.

Affected Public: General public skilled in bird identification.

Respondent's Obligation: None. Participation is voluntary.

Frequency of Collection: Annually.

Estimated Total Number of Annual Responses: 2,600.

Estimated Time per Response: 11 hours.

Estimated Annual Burden Hours: 28,600.

Estimated Reporting and Recordkeeping “Non-Hour Cost” Burden: Mileage costs are on average $57.50 per response. This includes an approximate 100-mile round trip for data collection.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Mark Wimer,
Patuxent Wildlife Research Center Director (Acting).

[FR Doc. 2015-07704 Filed 4-2-15; 8:45 am]

BILLING CODE 4311-AM-P